DEPARTMENT OF COMMERCE

Office of the Secretary

15 CFR Parts 19, 21 and 22

[Docket Number: 070216039-7495-02]

RIN 0605-AA24

Commerce Debt Collection

AGENCY: Office of the Chief Financial Officer and Assistant Secretary for Administration, Department of Commerce.

ACTION: Final rule.

SUMMARY: This rule adopts as final the revised Department of Commerce (Commerce Department or Commerce) debt collection regulations to conform to the Debt Collection Improvement Act of 1996, the revised Federal Claims Collection Standards, and other laws applicable to the collection of non-tax debts owed to the Commerce Department. This rule also adopts as final Commerce's regulations governing the offset of Commerce-issued payments to collect debts owed to other Federal agencies.

DATES: This rule is effective October 9, 2007.

FOR FURTHER INFORMATION CONTACT: Lisa Casias, Deputy Chief Financial Officer and Director for Financial Management, Office of Financial Management, at (202) 482-1207, Department of Commerce, 1401 Constitution Avenue, NW., Room 6827, Washington, DC 20230. This document is available for downloading from the Department of Commerce, Office of Financial Management's Web site at the following address: http://osec.doc.gov/ofm/OFM%20Publications.htm.

SUPPLEMENTARY INFORMATION:

Background

This rule revises and replaces Department of Commerce debt collection regulations found at 15 CFR Parts 19, 21 and 22 to conform to the Debt Collection Improvement Act of 1996 (DCIA), Public Law 104-134, 110 Stat. 1321, 1358 (Apr. 26, 1996), the revised Federal Claims Collection Standards, 31 CFR Chapter IX (Parts 900 through 904), and other laws applicable to the collection of non-tax debt owed to the Government. The Department of Commerce made additions and revisions to 15 CFR Part 19, and deleted 15 CFR Parts 21 and 22 to consolidate and streamline the debt collection regulations.

This regulation provides procedures for the collection of non-tax debts owed to Commerce Department entities. Commerce adopts the Government-wide debt collection standards promulgated by the Departments of the Treasury and Justice, known as the Federal Claims Collection Standards (FCCS), as revised on November 22, 2000 (65 FR 70390), and supplements the FCCS by prescribing procedures consistent with the FCCS, as necessary and appropriate for Commerce operations. This regulation also provides the procedures for the collection of debts owed to other Federal agencies when a request for offset is received by Commerce.

This regulation does not contain a section regarding the delegation of debt collection authority within the Commerce Department. The delegation is contained in the Department of Commerce Credit and Debt Management Operating Procedures Handbook (currently available at http://www.osec.doc.gov/ofm/credit/cover.htm), and does not need to be included in the regulation.

Nothing in this regulation precludes the use of collection remedies not contained in this regulation. For example, Commerce entities may collect unused travel advances through offset of an employee's pay under 5 U.S.C. 5705. Commerce entities and other Federal agencies may simultaneously use multiple collection remedies to collect a debt, except as prohibited by law.

Commerce entities may, but are not required to, promulgate additional policies and procedures consistent with this regulation, the FCCS, and other applicable Federal laws, policies, and procedures, subject to the approval of the Deputy Chief Financial Officer.

Section Analysis

The Department of Commerce published the Interim final rule with request for comments on April 16, 2007 at 72 FR 18869. No comments were received. For section analysis of this final rule, see 72 FR 18869 on April 16, 2007.

Regulatory Analysis

E.O. 12866, Regulatory Review

This rule is not a significant regulatory action as defined in Executive Order 12866.

Regulatory Flexibility Act

Because notice of proposed rulemaking and opportunity for comment are not required pursuant to 5 U.S.C. 553, or any other law, the analytical requirements of the Regulatory Flexibility act (5 U.S.C. 601, et seq.) are inapplicable. Therefore, a regulatory flexibility analysis is not required and has not been prepared.

List of Subjects in 15 CFR Part 19

Administrative practice and procedure, Claims, Debts, Garnishment of wages, Government employee, Hearing and appeal procedures, Pay administration, Salaries, Wages.

Authority and Issuance

Accordingly, the interim final rule amending 15 CFR part 19 and removing 15 CFR parts 21 and 22 which was published at 72 FR 18869 on April 16, 2007, is adopted as a final rule without change.

Dated: October 1, 2007.
Lisa Casias,
Deputy Chief Financial Officer and Director for Financial Management, Department of Commerce.

[FR Doc. E7-19755 Filed 10-5-07; 8:45 am]

BILLING CODE 3510-FA-P